DEPARTMENT OF THE TREASURY

Office of Foreign Assets Control

31 CFR Chapter V

Blocked Persons, Specially Designated Nationals, Specially Designated Terrorists, Foreign Terrorist Organizations, and Specially Designated Narcotics Traffickers: Additional Designations and Supplementary Information on Specially Designated Narcotics Traffickers

AGENCY: Office of Foreign Assets Control, Treasury.

ACTION: Amendment of final rule.

SUMMARY: The Treasury Department is amending appendix A to 31 CFR chapter V by adding the names of 8 individuals and 8 entities and supplementing information concerning 16 individuals who have been designated as specially designated narcotics traffickers.

EFFECTIVE DATE: December 19, 2000.

FOR FURTHER INFORMATION CONTACT: Office of Foreign Assets Control, Department of the Treasury, Washington, D.C. 20220, tel.: 202/622-2520.

SUPPLEMENTARY INFORMATION:

Electronic and Facsimile Availability

This document is available as an electronic file on The Federal Bulletin Board the day of publication in the Federal Register. By modem, dial 202/512-1387 and type “/GO FAC,” or call 202/512-1530 for disk or paper copies. This file is available for downloading without charge in ASCII and Adobe Acrobat® readable (*.PDF) formats. For Internet access, the address for use with the World Wide Web (Home Page), Telnet, or FTP protocol is: fedbbs.access.gpo.gov. This document and additional information concerning the programs of the Office of Foreign Assets Control are available for downloading from the Office's Internet Home Page: http://www.treas.gov/ofac, or in fax form through the Office's 24-hour fax-on-demand service: call 202/622-0077 using a fax machine, fax modem, or (within the United States) a touch-tone telephone.

Background

Appendix A to 31 CFR chapter V contains the names of blocked persons, specially designated nationals, specially designated terrorists, foreign terrorist organizations, and specially designated narcotics traffickers designated pursuant to the various economic sanctions programs administered by the Office of Foreign Assets Control (“OFAC”). Pursuant to Executive Order 12978 of October 21, 1995, “Blocking Assets and Prohibiting Transactions with Significant Narcotics Traffickers” (the “Order”) and § 536.312 of the Narcotics Trafficking Sanctions Regulations, 31 CFR part 536 (the “Regulations”), the following 8 individuals and 8 entities are added to appendix A as persons who have been determined to play a significant role in international narcotics trafficking centered in Colombia, to materially assist in or provide financial support or technological support for, or goods or services in support of other specially designated narcotics traffickers, or to be owned or controlled by, or to act for or on behalf of, persons designated in or pursuant to the Order (collectively “Specially Designated Narcotics Traffickers” or “SDNTs”). All real and personal property in which the SDNTs have any interest, including but not limited to all accounts, that are or come within the United States or that are or come within the possession or control of U.S. persons, including their overseas branches, are blocked. All transactions by U.S. persons or within the United States in property or interests in property of SDNTs are prohibited unless licensed by the Office of Foreign Assets Control or exempted by statute. Supplementary information is added to existing SDNT entries for 16 individuals and those entries are revised in their entirety.

Designations of foreign persons blocked pursuant to the Order are effective upon the date of determination by the Director of the Office of Foreign Assets Control, acting under authority delegated by the Secretary of the Treasury. Public notice of blocking is effective upon the date of filing with the Federal Register, or upon prior actual notice.

Because the Regulations involve a foreign affairs function, Executive Order 12866 and the provisions of the Administrative Procedure Act (5 U.S.C. 553), requiring notice of proposed rulemaking, opportunity for public participation, and delay in effective date, are inapplicable. Because no notice of proposed rulemaking is required for this rule, the Regulatory Flexibility Act (5 U.S.C. 601-612) does not apply.

For the reasons set forth in the preamble, and under the authority of 3 U.S.C. 301; 50 U.S.C. 1601-1651; 50 U.S.C. 1701-1706; E.O. 12978, 60 FR 54579, 3 CFR, 1995 Comp., p. 415, appendix A to 31 CFR chapter V is amended as set forth below:

Appendix A [Amended]

1. Appendix A to 31 CFR chapter V is amended by adding the following names inserted in alphabetical order, to read as follows:

AGROVETERINARIA EL TORO (see INVERSIONES BOMBAY S.A.) [SDNT]

AGROVETERINARIA EL TORO #2 (see INVERSIONES BOMBAY S.A.) [SDNT]

BARRIOS, Alba Lucia, Los Alcazares Bloq. 93 Ap. 402, Cali, Colombia; c/o CREDIREBAJA S.A., Cali, Colombia; c/o POLIEMPAQUES S.A., Cali, Colombia; c/o SONAR F.M. E.U. DIETER MURRLE, Cali, Colombia; c/o SONAR F.M. S.A., Cali, Colombia; Cedula No. 38853130 (Colombia) (individual) [SDNT]

CAVIEDES DILEO Y CIA. S.C.S, Calle 21 Norte No. 3N-64, Cali, Colombia; NIT #800113437-2 (Colombia) [SDNT]

COMUNICACION VISUAL LTDA., (a.k.a. COMVIS LTDA.), Calle 11 No. 19-44, Cali, Colombia [SDNT]

COMVIS LTDA. (see COMUNICACION VISUAL LTDA.) [SDNT]

CREDIREBAJA S.A., Calle 16 No. 100-88, Cali, Colombia; Calle 19 No. 2-29 of. 3001, Cali, Colombia; NIT #805001030-6 (Colombia) [SDNT]

CUJAR DE FORERO, Claudia, c/o BONOMERCAD S.A., Bogota, Colombia; c/o DISTRIBUIDORA AGROPECUARIA COLOMBIANA S.A., Cali, Colombia; Cedula No. 20198740 (Colombia) (individual) [SDNT]

DIAGROCOL S.A. (see DISTRIBUIDORA AGROPECUARIA COLOMBIANA S.A.) [SDNT]

DISTRIBUIDORA AGROPECUARIA COLOMBIANA S.A., (a.k.a. DIAGROCOL S.A.), Avenida 3 Bis Norte No. 23C-69, Cali, Colombia; NIT #805011649-7 (Colombia) [SDNT]

FORERO FERNANDEZ, Alberto Mario, c/o HAPPY DAYS S. de H., Barranquilla, Colombia; Cedula No. 8715143 (Colombia) (individual) [SDNT]

HAPPY DAYS S. de H., Calle 78 No. 53-70, Locales 315 y 316, Barranquilla, Colombia; NIT #802003826-1 (Colombia) [SDNT]

INVERSIONES BOMBAY S.A., (a.k.a. AGROVETERINARIA EL TORO; a.k.a. AGROVETERINARIA EL TORO #2), Transversal 29 No. 39-92, Bogota, Colombia; Calle 12B No. 28-50, Bogota, Colombia; Avenida 3 Bis Norte No. 23CN-69, Cali, Colombia; Calle 7 No. 25-69, Cali, Colombia; NIT #830019226-2 (Colombia) [SDNT]

PALMA SAADE, Jessica Maria, Calle 78 No. 53-70, Local 202, Barranquilla, Colombia; c/o VESTIMENTA J y J S. de H., Barranquilla, Colombia; Cedula No. 32758645 (Colombia) (individual) [SDNT]

PRIETO, Diocelina (see PRIETO, Dioselina) (individual) [SDNT]

PRIETO, Dioselina, (a.k.a. PRIETO, Diocelina), Carrera 12 No. 2-81, Bogota, Colombia; c/o COMEDICAMENTOS S.A., Bogota, Colombia; c/o DISTRIBUIDORA AGROPECUARIA COLOMBIANA S.A., Cali, Colombia; c/o GLAJAN S.A., Bogota, Colombia; c/o INVERSIONES BOMBAY S.A., Bogota, Colombia; Cedula No. 41760201 (Colombia) (individual) [SDNT]

RAMOS GARBIRAS, Gerardo Alfonso, Carrera 29 No. 9-64, Cali, Colombia; c/o DISTRIBUIDORA AGROPECUARIA COLOMBIANA S.A., Cali, Colombia; c/o INVERSIONES BOMBAY S.A., Bogota, Colombia; Cedula No. 6457125 (Colombia) (individual) [SDNT]

RODRIGUEZ ARBELAEZ, Juan Miguel, Avenida del Lago Calle Cocli Casa 19 Ciudad Jardin, Cali, Colombia; c/o CREDIREBAJA S.A., Cali, Colombia; c/o INVERSIONES ARA LTDA., Cali, Colombia; c/o INVERSIONES RODRIGUEZ ARBELAEZ Y CIA. S.C.S., Cali, Colombia; c/o M. RODRIGUEZ O. Y CIA. S.C.S., Cali, Colombia; c/o VALORES MOBILIARIOS DE OCCIDENTE S.A., Cali, Colombia; Cedula No. 94491333 (Colombia) (individual) [SDNT]

ROJAS GALARZA, Carmen Amparo, Carrera 35 No. 10-130, Cali, Colombia; c/o CREDIREBAJA S.A., Cali, Colombia; Cedula No. 34511289 (Colombia) (individual) [SDNT]

SORAYA Y HAYDEE LTDA., Calle 15 Norte No. 6N-34, Piso 15, Cali, Colombia; NIT #805000643-6 (Colombia) [SDNT]

VESTIMENTA J Y J S. de H., Calle 78 No. 53-70, Local 112, Barranquilla, Colombia; NIT #802001338-8 (Colombia) [SDNT]

2. Appendix A to 31 CFR chapter V is amended by revising the following existing entries to read as follows:

ARBELAEZ PARDO, Amparo, Casa No. 19, Avenida Lago, Ciudad Jardin, Cali, Colombia; c/o CREDIREBAJA S.A., Cali, Colombia; c/o INTERAMERICANA DE CONSTRUCCIONES S.A., Cali, Colombia; c/o INVERSIONES ARA LTDA., Cali, Colombia; c/o LABORATORIOS KRESSFOR DE COLOMBIA S.A., Bogota, Colombia; c/o VALORES MOBILIARIOS DE OCCIDENTE, Bogota, Colombia; DOB 9 August 1950; Passports AC568973 (Colombia), PE001850 (Colombia); Cedula No. 31218903 (Colombia) (individual) [SDNT]

ARBOLEDA ARROYAVE, Pedro Nicholas (Nicolas), c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; DOB 23 June 1957; Cedula No. 16602372 (Colombia) (individual) [SDNT]

BENITEZ CASTELLANOS, Cesar Tulio, Carrera 65 No. 13B-82, Cali, Colombia; c/o COMUNICACION VISUAL LTDA., Cali, Colombia; c/o D'CACHE S.A., Cali, Colombia; c/o DROGAS LA REBAJA, Cali, Colombia; c/o INVERSIONES MONDRAGON Y CIA. S.C.S., Cali, Colombia; c/o INVERSIONES Y CONSTRUCCIONES ABC S.A., Cali, Colombia; c/o RIONAP COMERCIOS Y REPRESENTACIONES S.A., Quito, Ecuador; Cedula No. 14969366 (Colombia) (individual) [SDNT]

CARRILLO QUINTERO, Eugenio, c/o BONOMERCAD S.A., Bogota, Colombia; c/o DECAFARMA S.A., Bogota, Colombia; c/o DISTRIBUIDORA AGROPECUARIA COLOMBIANA S.A., Cali, Colombia; c/o PATENTES MARCAS Y REGISTROS S.A., Bogota, Colombia; c/o SHARPER S.A., Bogota, Colombia; Cedula No. 73094061 (Colombia) (individual) [SDNT]

CAVIEDES CRUZ, Leonardo, Calle 21 Norte No. 3N-84, Cali, Colombia; c/o CAVIEDES DILEO Y CIA S.C.S., Cali, Colombia; c/o INVERSIONES SANTA LTDA., Cali, Colombia; DOB 23 November 1952; Passports AB151486 (Colombia); AC444270 (Colombia), OC444290 (Colombia); Cedula No. 16593470 (Colombia) (individual) [SDNT]

MUÑOZ RODRIGUEZ, Juan Carlos, c/o BLANCO PHARMA S.A., Bogota, Colombia; c/o CREDIREBAJA S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o GRACADAL S.A., Cali, Colombia; c/o INVERSIONES Y CONSTRUCCIONES ABC S.A., Cali, Colombia; c/o LABORATORIOS BLAIMAR DE COLOMBIA S.A., Bogota, Colombia; c/o LABORATORIOS KRESSFOR DE COLOMBIA S.A., Bogota, Colombia; DOB 25 September 1964; Passport 16703148 (Colombia); Cedula No. 16703148 (Colombia) (individual) [SDNT]

MUÑOZ RODRIGUEZ, Soraya, c/o BLANCO PHARMA S.A., Bogota, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o INVERSIONES Y CONSTRUCCIONES ABC S.A., Cali, Colombia; c/o LABORATORIOS BLAIMAR DE COLOMBIA S.A., Bogota, Colombia; c/o LABORATORIOS KRESSFOR DE COLOMBIA S.A., Bogota, Colombia; c/o RADIO UNIDAS FM S.A., Cali, Colombia; c/o SORAYA Y HAYDEE LTDA., Cali, Colombia; DOB 26 July 1967; Passport AC569012 (Colombia); Cedula No. 31976822 (Colombia) (individual) [SDNT]

NASSER ARANA, Jorge, Calle 74 No. 53-30, Barranquilla, Colombia; c/o AGRICOLA SONGO LTDA., Barranquilla, Colombia; c/o DESARROLLOS URBANOS “DESARROLLAR” LTDA., Barranquilla, Colombia; c/o EDIFICACIONES DEL CARIBE LTDA., Barranquilla, Colombia; c/o GRAN COMPANÑIA DE HOTELES LTDA., Barranquilla, Colombia; c/o HAPPY DAYS S. de H., Barranquilla, Colombia; c/o HOTELES E INMUEBLES DE COLOMBIA LTDA., Barranquilla, Colombia; c/o INMOBILIARIA DEL CARIBE LTDA., Barranquilla, Colombia; INMOBILIARIA HOTELERA DEL CARIBE LTDA., Barranquilla, Colombia; INVERSIONES HOTELERAS DEL LITORAL LTDA., Barranquilla, Colombia; INVERSIONES PRADO TRADE CENTER LTDA., Barranquilla, Colombia; c/o NEGOCIOS Y PROPIEDADES DEL CARIBE LTDA., Barranquilla, Colombia; c/o PROMOCIONES Y CONSTRUCCIONES DEL CARIBE LTDA., Barranquilla, Colombia; c/o PROMOCIONES Y CONSTRUCCIONES DEL CARIBE LTDA. Y CIA. S.C.A., Barranquilla, Colombia; c/o PROMOTORA HOTEL BARRANQUILLA LTDA., Barranquilla, Colombia; c/o SURAMERICANA DE HOTELES LTDA., Barranquilla, Colombia; c/o VESTIMENTA J Y J S. de H., Barranquilla, Colombia; DOB 6 November 1966; Passports T705915 (Colombia), AC143719 (Colombia); Cedula No. 72139939 (Colombia) (individual) [SDNT]

RODRIGUEZ ABADIA, William, c/o ANDINA DE CONSTRUCCIONES S.A., Cali, Colombia; c/o ASPOIR DEL PACIFICO Y CIA. LTDA., Cali, Colombia; c/o BLANCO PHARMA S.A., Bogota, Colombia; c/o CLAUDIA PILAR RODRIGUEZ Y CIA. S.C.S., Bogota, Colombia; c/o CREDIREBAJA S.A., Cali, Colombia; c/o DEPOSITO POPULAR DE DROGAS S.A., Cali, Colombia; c/o DERECHO INTEGRAL Y CIA. LTDA., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; INTERAMERICANA DE CONSTRUCCIONES S.A., Cali, Colombia; c/o INVERSIONES ARA LTDA., Cali, Colombia; c/o INVERSIONES MIGUEL RODRIGUEZ E HIJO, Cali, Colombia; c/o LABORATORIOS BLAIMAR DE COLOMBIA S.A., Bogota, Colombia; c/o LABORATORIOS KRESSFOR DE COLOMBIA S.A., Bogota, Colombia; c/o M. RODRIGUEZ O. Y CIA. S. EN C., Cali, Colombia; c/o MUÑOZ Y RODRIGUEZ Y CIA. LTDA., Cali, Colombia; c/o PRODUCCIONES CARNAVAL DEL NORTE Y COMPANIA LIMITADA, Cali, Colombia; c/o RADIO UNIDAS FM S.A., Cali, Colombia; c/o REVISTA DEL AMERICA LTDA., Cali, Colombia; c/o RIONAP COMERCIO Y REPRESENTACIONES S.A., Quito, Ecuador; c/o VALORES MOBILIARIOS DE OCCIDENTE S.A., Bogota, Colombia; DOB 31 July 1965; Cedula No. 16716259 (Colombia) (individual) [SDNT]

RODRIGUEZ ARBELAEZ, Maria Fernanda, c/o CREDIREBAJA S.A., Cali, Colombia; c/o D'CACHE S.A., Cali, Colombia; c/o DEPOSITO POPULAR DE DROGAS S.A., Cali, Colombia; c/o DISTRIBUIDORA DE DROGAS LA REBAJA S.A., Bogota, Colombia; c/o DROGAS LA REBAJA BOGOTA S.A., Bogota, Colombia; c/o INTERAMERICANA DE CONSTRUCCIONES S.A., Cali, Colombia; c/o INVERSIONES ARA LTDA., Cali, Colombia; c/o PRODUCCIONES CARNAVAL DEL NORTE Y COMPANIA LIMITADA, Cali, Colombia; c/o RIONAP COMERCIO Y REPRESENTACIONES S.A., Quito, Ecuador; c/o VALORES MOBILIARIOS DE OCCIDENTE S.A., Cali, Colombia; DOB 28 November 1973; Alt. DOB 28 August 1973; Passport AC568974 (Colombia); Cedula No. 66860965 (Colombia) (individual) [SDNT]

RODRIGUEZ DE ROJAS, Haydee, (a.k.a. RODRIGUEZ DE MUÑOZ, Haydee; a.k.a. RODRIGUEZ OREJUELA, Haydee), c/o BLANCO PHARMA S.A., Bogota, Colombia; c/o CORPORACION DEPORTIVA AMERICA, Cali, Colombia; c/o CREACIONES DEPORTIVAS WILLINGTON LTDA., Cali, Colombia; c/o DISTRIBUIDORA DE DROGAS CONDOR LTDA., Bogota, Colombia; c/o DISTRIBUIDORA MIGIL LTDA., Cali, Colombia; c/o HAYDEE DE MUÑOZ Y CIA. S. EN C., Cali, Colombia; c/o RADIO UNIDAS FM S.A., Cali, Colombia; c/o SORAYA Y HAYDEE LTDA., Cali, Colombia; DOB 22 September 1940; Cedula No. 38953333 (Colombia) (individual) [SDNT]

RODRIGUEZ MONDRAGON, Maria Alexandra, (a.k.a. RODRIGUEZ MONDRAGON, Alexandra), c/o BLANCO PHARMA S.A., Bogota, Colombia; c/o CORPORACION DEPORTIVA AMERICA, Cali, Colombia; c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o GRACADAL S.A., Cali, Colombia; c/o INTERAMERICANA DE CONSTRUCCIONES S.A., Cali, Colombia; c/o INVERSIONES MONDRAGON Y CIA. S.C.S., Cali, Colombia; c/o LABORATORIOS BLAIMAR DE COLOMBIA S.A., Bogota, Colombia; c/o MARIELA DE RODRIGUEZ Y CIA. S. EN C., Cali, Colombia; c/o MARIELA MONDRAGON DE R. Y CIA. S. EN C., Cali, Colombia; c/o PENTA PHARMA DE COLOMBIA S.A., Bogota, Colombia; c/o TOBOGON, Cali, Colombia; DOB 30 May 1969; alt. DOB 5 May 1969; Passport AD359106 (Colombia); Cedula No. 66810048 (Colombia) (individual) [SDNT]

RODRIGUEZ MONDRAGON, Humberto, c/o ANDINA DE CONSTRUCCIONES S.A., Cali, Colombia; c/o BLANCO PHARMA S.A., Bogota, Colombia; c/o CLAUDIA PILAR RODRIGUEZ Y CIA. S.C.S., Bogota, Colombia; c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o FARAMATODO S.A., Bogota, Colombia; c/o GRACADAL S.A., Cali, Colombia; c/o INDUSTRIAL DE GESTION DE NEGOCIOS E.U., Cali, Colombia; c/o INTERAMERICANA DE CONSTRUCCIONES S.A., Cali, Colombia; c/o INVERSIONES MONDRAGON Y CIA. S.C.S., Cali, Colombia; c/o LABORATORIOS BLAIMAR DE COLOMBIA S.A., Bogota, Colombia; c/o LABORATORIOS KRESSFOR DE COLOMBIA S.A., Bogota, Colombia; c/o MARIELA DE RODRIGUEZ Y CIA. S. EN C., Cali, Colombia; c/o MAXITIENDAS TODO EN UNO, Cali, Colombia; c/o PENTA PHARMA DE COLOMBIA S.A., Bogota, Colombia; c/o RADIO UNIDAS FM S.A., Cali, Colombia; c/o RIONAP COMERCIO Y REPRESENTACIONES S.A., Quito, Ecuador; DOB 21 June 1963; Passport AD387757 (Colombia); Cedula No. 16688683 (Colombia) (individual) [SDNT]

RODRIGUEZ MONDRAGON, Jaime, c/o BLANCO PHARMA S.A., Bogota, Colombia; c/o CORPORACION DEPORTIVA AMERICA, Cali, Colombia; c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o FARMATODO S.A., Bogota, Colombia; c/o FLEXOEMPAQUES LTDA., Cali, Colombia; c/o GRACADAL S.A., Cali, Colombia; c/o INVERSIONES MONDRAGON Y CIA. S.C.S., Cali, Colombia; c/o LABORATORIOS BLAIMAR DE COLOMBIA S.A., Bogota, Colombia; c/o LABORATORIOS KRESSFOR DE COLOMBIA S.A., Bogota, Colombia; c/o MARIELA DE RODRIGUEZ Y CIA. S. EN C., Cali, Colombia; c/o PENTA PHARMA DE COLOMBIA S.A., Bogota, Colombia; c/o PLASTICOS CONDOR LTDA., Cali, Colombia; c/o RIONAP COMERCIO Y REPRESENTACIONES S.A., Quito, Ecuador; DOB 30 March 1960; Passport AE426347 (Colombia); Cedula No. 16637592 (Colombia) (individual) [SDNT]

RODRIGUEZ RAMIREZ, Claudia Pilar (Patricia), c/o CLAUDIA PILAR RODRIGUEZ Y CIA. S.C.S., Bogota, Colombia; c/o CREDIREBAJA S.A., Cali, Colombia; c/o D'CACHE S.A., Cali, Colombia; c/o DEPOSITO POPULAR DE DROGAS S.A., Cali, Colombia; c/o DISTRIBUIDORA DE DROGAS CONDOR LTDA., Bogota, Colombia; c/o DISTRIBUIDORA DE DROGAS LA REBAJA S.A., Bogota, Colombia; c/o DISTRIBUIDORA MIGIL LTDA., Cali, Colombia; c/o FARMATODO S.A., Bogota, Colombia; c/o GRACADAL S.A., Cali, Colombia; c/o INTERAMERICANA DE CONSTRUCCIONES S.A., Cali, Colombia; c/o LABORATORIOS BLAIMAR DE COLOMBIA S.A., Bogota, Colombia; c/o LABORATORIOS KRESSFOR DE COLOMBIA S.A., Bogota, Colombia; DOB 30 June 1963; alt. DOB 30 August 1963; alt. DOB 1966; Passports 007281 (Colombia), P0555266 (Colombia); Cedula No. 51741013 (Colombia) (individual) [SDNT]

SOSSA RIOS, Diego Alberto, (a.k.a. SOSA RIOS, Diego Alberto), Calle 46 No. 13-56 of. 111, Bogota, Colombia; c/o BONOMERCAD S.A., Bogota, Colombia; c/o DECAFARMA S.A., Bogota, Colombia; c/o DISTRIBUIDORA AGROPECUARIA COLOMBIANA S.A.; c/o FARMACOOP, Bogota, Colombia; c/o INVERSIONES BOMBAY S.A., Bogota, Colombia; c/o PENTAPHARMA DE COLOMBIA S.A., Bogota, Colombia; c/o SHARPER S.A., Bogota, Colombia; Cedula No. 71665932 (Colombia) (individual) [SDNT]

Dated: December 6, 2000.
R. Richard Newcomb,
Director, Office of Foreign Assets Control.
Approved: December 7, 2000.
Elisabeth A. Bresee,
Assistant Secretary (Enforcement), Department of the Treasury.

[FR Doc. 00-32618 Filed 12-19-00; 10:58 am]

BILLING CODE 4810-25-P